DEPARTMENT OF COMMERCE

Foreign-Trade Zones Board

[B-35-2021]

Foreign-Trade Zone 210—St. Clair County, Michigan; Application for Reorganization Under Alternative Site Framework

An application has been submitted to the Foreign-Trade Zones (FTZ) Board by the Economic Development Alliance of St. Clair County, grantee of FTZ 210, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 29, 2021.

FTZ 210 was approved by the FTZ Board on November 28, 1995 (Board Order 783, 60 FR 64156, December 14, 1995).

The current zone includes the following sites: Site 1 (2 acres)—Port Huron Seaway Terminal, 2336 Military Street, Port Huron; Site 2 (300 acres)—Port Huron Industrial Park, 16th and Dove Streets, Port Huron; Site 3 (15 acres)—International Industrial Park, 330 Griswold Road, Port Huron; and, Site 4 (9 acres)—Wilkie Brothers Warehouse, 1765 Michigan Avenue, Port Huron.

The grantee's proposed service area under the ASF would be Huron, Lapeer, Macomb, Sanilac and St. Clair Counties, Michigan, as described in the application. If approved, the grantee would be able to serve sites throughout the service area based on companies' needs for FTZ designation. The application indicates that the proposed service area is within and adjacent to the Port Huron, Michigan, U.S. Customs and Border Protection port of entry.

The applicant is requesting authority to reorganize its existing zone to include all the existing sites as “magnet” sites. No subzones/usage-driven sites are being requested at this time.

In accordance with the FTZ Board's regulations, Elizabeth Whiteman and Juanita Chen of the FTZ Staff are designated examiners to evaluate and analyze the facts and information presented in the application and case record and to report findings and recommendations to the FTZ Board.

Public comment is invited from interested parties. Submissions shall be addressed to the FTZ Board's Executive Secretary and sent to: ftz@trade.gov. The closing period for their receipt is July 6, 2021. Rebuttal comments in response to material submitted during the foregoing period may be submitted during the subsequent 15-day period to July 20, 2021.

A copy of the application will be available for public inspection in the “Reading Room” section of the FTZ Board's website, which is accessible via www.trade.gov/ftz. For further information, contact Elizabeth Whiteman at Elizabeth.Whiteman@trade.gov or Juanita Chen at Juanita.Chen@trade.gov.

Dated: April 30, 2021.
Andrew McGilvray,
Executive Secretary.

[FR Doc. 2021-09550 Filed 5-5-21; 8:45 am]

BILLING CODE 3510-DS-P